POSTAL SERVICE

39 CFR Part 20

International Mailing Services: Proposed Price Changes

AGENCY: Postal Service™.

ACTION: Proposed rule.

SUMMARY: In October 2016, the Postal Service filed a notice of mailing services price adjustments with the Postal Regulatory Commission (PRC) for products and services covered by Mailing Standards of the United States Postal Service, International Mail Manual (IMM®), to be effective on January 22, 2017. The Postal Service will revise Notice 123, Price List on Postal Explorer® at http://pe.usps.com to reflect the new prices.

DATES: We must receive your comments on or before November 16, 2016.

ADDRESSES: Mail or deliver comments to the manager, Product Classification, U.S. Postal Service®, 475 L'Enfant Plaza SW., RM 4446, Washington, DC 20260-5015. You may inspect and photocopy all written comments at USPS® Headquarters Library, 475 L'Enfant Plaza SW., 11th Floor N, Washington, DC by appointment only between the hours of 9 a.m. and 4 p.m., Monday through Friday by calling 1-202-268-2906 in advance. Email comments, containing the name and address of the commenter, may be sent to: ProductClassification@usps.gov, with a subject line of “January 2017 International Mailing Services Price Change.” Faxed comments are not accepted.

FOR FURTHER INFORMATION CONTACT: Paula Rabkin at 202-268-2537.

SUPPLEMENTARY INFORMATION: The Postal Service hereby gives notice that, pursuant to 39 U.S.C. 3622, on October 12, 2016, it filed with the Postal Regulatory Commission a Notice of Market-Dominant Price Adjustment. Proposed prices and other documents relevant to this filing are available under Docket No. R2017-1 on the PRC's Web site at www.prc.gov.

This proposed rule includes price changes for certain international extra services.

First-Class Mail International

We propose no increase to prices for single-piece First-Class Mail International® letters, postcards, and flats. The price of a single piece 1-ounce letter is proposed to continue to be $1.15. The First-Class Mail International letter nonmachinable surcharge will not increase.

International Extra Services and Fees

The Postal Service proposes to increase prices for certain market dominant international extra services including:

• Certificate of Mailing (5.36%)

• Registered Mail™ (11.57%)

• Return Receipt (4.1%)

• Customs Clearance and Delivery Fee (4.3%)

• International Business Reply™ Service (average of 2.9%).

Extra Services

Certificate of Mailing
Individual pieces | Fee
Individual article (PS Form 3817) | $1.35
Firm mailing books (PS Form 3665), per article listed (minimum 3) | 0.39
Duplicate copy of PS Form 3817 or PS Form 3665 (per page) | 1.35
Bulk quantities | Fee
First 1,000 pieces (or fraction thereof) | $7.95
Each additional 1,000 pieces (or fraction thereof) | 0.99
Duplicate copy of PS Form 3606 | 1.35

Registered Mail

Fee: $14.95.

Return Receipt

Fee: $3.85.

Customs Clearance and Delivery

Fee: per piece $6.00.

International Business Reply Service

Fee: Cards $1.35; Envelopes up to 2 ounces $1.85.

Following the completion of Docket No. R2017-1, the Postal Service will adjust the prices for products and services covered by the International Mail Manual. These prices will be on Postal Explorer at pe.usps.com.

Additionally, as general information, the product name of Standard Mail®, which is used in two instances in the International Mail Manual but is not an International product, will change to USPS Marketing Mail effective January 22, 2017.

Although exempt from the notice and comment requirements of the Administrative Procedure Act [5 U.S.C. 553(b), (c)] regarding proposed rulemaking by 39 U.S.C. 410(a), the Postal Service invites public comment on the following proposed revisions to the Mailing Standards of the United States Postal Service, International Mail Manual (IMM), incorporated by reference in the Code of Federal Regulations. See 39 CFR 20.1.

List of Subjects in 39 CFR Part 20

Foreign relations, International postal services.

Accordingly, we propose to amend 39 CFR part 20 as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

1 International Mail Services

110 General Information

* * * * *

116 Trademarks of the USPS

116.1 USPS Trademarks in the IMM

* * * * *

Exhibit 116.1 USPS Trademarks in the IMM

[Delete Standard Mail and add USPS Marketing Mail in correct alphabetical order]

* * * * *

7 Treatment of Inbound Mail

* * * * *

760 Forwarding

* * * * *

762 Mail of Domestic Origin

762.1 Addressee Moved to Another Country

* * * * *

762.12 Mail Other Than Letters and Postcards

[In the first sentence, delete the term Standard Mail and replace it with USPS Marketing Mail to read as follows:]

Domestic mail (Periodicals mail, USPS Marketing Mail, and Package Services) addressed to a domestic addressee who has moved to another country must not be forwarded to another country but must be returned to the sender.* * *

* * * * *

We will publish an appropriate amendment to 39 CFR part 20 to reflect these changes.

Stanley F. Mires,
Attorney, Federal Compliance.

[FR Doc. 2016-24968 Filed 10-14-16; 8:45 am]

BILLING CODE 7710-12-P